DEPARTMENT OF HOMELAND SECURITY

Coast Guard

33 CFR Part 117

[Docket No. USCG-2017-0245]

Drawbridge Operation Regulation; York River, Yorktown, VA

AGENCY: Coast Guard, DHS.

ACTION: Notice of deviation from drawbridge regulations.

SUMMARY: The Coast Guard has issued a temporary deviation from the operating schedule that governs the Coleman Memorial (US 17) Bridge which carries US 17 across the York River, mile 7.0, at Yorktown, VA. The deviation is necessary to facilitate bridge maintenance. This deviation allows the bridge to remain in the closed-to-navigation position.

DATES: The deviation is effective from 5:30 a.m. on Sunday, May 7, 2017, through 8 a.m. on Sunday, May 14, 2017.

ADDRESSES: The docket for this deviation, [USCG-2017-0245] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLMENTARY INFORMATION: The Virginia Department of Transportation, owner and operator of the Coleman Memorial (US 17) Bridge, that carries US 17 across the York River, mile 7.0, at Yorktown, VA, has requested a temporary deviation from the current published schedule to test the manual operating capabilities of each swing span of the drawbridge. The bridge has a vertical clearance of 60 feet above mean high water (MHW) in the closed position and unlimited vertical clearance in the open position. The current operating schedule is set out in 33 CFR 117.1025. Under this temporary deviation, the bridge will be in the closed-to-navigation position from 5:30 a.m. to 8 a.m., on Sunday, May 7, 2017; with an alternative date on Sunday, May 14, 2017.

The York River is used by a variety of vessels including recreational, tug and barge traffic, fishing vessels, and small commercial vessels. The Coast Guard has carefully coordinated the restrictions with waterway users in publishing this temporary deviation.

Vessels able to pass through the bridge in the closed-to-navigation position may do so at any time. The bridge will be able to open for emergencies, if at least 30 minutes notice is given, and there is no immediate alternative route for vessels unable to pass through the bridge in the closed position. The Coast Guard will also inform the users of the waterway through our Local Notice and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: April 21, 2017.
Hal R. Pitts,
Bridge Program Manager, Fifth Coast Guard District.

[FR Doc. 2017-08503 Filed 4-26-17; 8:45 am]

BILLING CODE 9110-04-P